DEPARTMENT OF THE INTERIOR

Fish and Wildlife Service

[FWS-R4-R-2008-N0284; 40136-1265-0000-S3]

Culebra National Wildlife Refuge, Puerto Rico

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act documents for Culebra National Wildlife Refuge (NWR). We provide this notice in compliance with our CCP policy to advise other agencies and the public of our intentions, and to obtain suggestions and information on the scope of issues to consider in the planning process.

DATES: To ensure consideration, we must receive your written comments by February 2, 2009. Special mailings, newspaper articles, and other media announcements will inform people of the opportunities for written input throughout the planning process.

ADDRESSES: Comments, questions, and requests for information should be sent to: Ana Roman, Culebra NWR, P.O. Box 190, Culebra, Puerto Rico 00775.

FOR FURTHER INFORMATION CONTACT: Ana Roman; Telephone: 787/742-0115; Fax: 787/742-1303.

SUPPLEMENTARY INFORMATION:

Introduction

With this notice, we initiate our process for developing a CCP for Culebra NWR in Puerto Rico.

This notice complies with our CCP policy to (1) advise other Federal and State agencies and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for State and local governments; agencies; organizations; and the public. At this time we encourage input in the form of issues, concerns, ideas, and suggestions for the future management of Culebra NWR. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

Portions of the Culebra Archipelago were designated as a wildlife reserve in 1909, subject to naval and lighthouse purposes. Numerous islands of the Archipelago, as well as the Flamenco Peninsula, were used for gunnery and bombing practice by the U.S. Navy until its departure in 1976. The following year, jurisdiction of those areas was transferred to the Commonwealth of Puerto Rico and the Service. On-site administration of the refuge was established in 1983. Approximately one quarter (1,510 acres) of the Culebra Archipelago's total land mass is now included within the refuge.

Culebra NWR is administered as a unit of the Caribbean Islands National Wildlife Refuge Complex. The refuge is composed of lands on the main island of Culebra and 22 small islands nearby. Wildlife habitats on these lands include subtropical dry forest, a unique habitat known as the boulder forest, mangroves, and grasslands. These habitats support flora and fauna including a seabird nesting colony on Flamenco Peninsula and nesting beaches utilized by leatherback and hawksbill sea turtles. Culebra NWR focuses on protecting, monitoring, and managing significant seabird colonies and endangered marine turtles, as well as restoring and protecting native tropical vegetative communities.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: November 18, 2008.
Cynthia K. Dohner,
Acting Regional Director.

[FR Doc. E8-30270 Filed 12-18-08; 8:45 am]

BILLING CODE 4310-55-P